DEPARTMENT OF THE INTERIOR

Fish and Wildlife Service

Notice of Intent To Prepare a Comprehensive Conservation Plan and Environmental Assessment for the Klamath Marsh National Wildlife Refuge

AGENCY: Fish and Wildlife Service, Interior.

ACTION: Notice of intent.

SUMMARY: This notice advises the public that the U.S. Fish and Wildlife Service (Service) intends to gather information necessary to prepare a Comprehensive Conservation Plan (CCP) and an associated environmental assessment for the Klamath Marsh National Wildlife Refuge pursuant to the National Wildlife Refuge System Administration Act of 1966, as amended, and the National Environmental Policy Act of 1969, as amended. The Service is providing this notice to advise other agencies, Tribal Governments, and the public of our intentions, and to obtain suggestions and information on the scope of the issues and alternatives to include in the CCP and environmental assessment.

DATES: We must receive comments on or before March 15, 2007.

Public scoping meetings will be held as follows:

(1) Tuesday, February 6, 2007—6 to 8:30 p.m., Shilo Inn Suites Hotel, 2500 Almond Street, Klamath Falls, Oregon 97601.

(2) Wednesday, February 7, 2007—6 to 8:30 p.m., Chiloquin Community Center, 140 1st Ave, Chiloquin, Oregon 97624.

ADDRESSES: Send written comments or requests to be added to the mailing list to the following address: Mark Pelz, Refuge Planner, CA/NV Refuge Planning Office, 2800 Cottage Way, W-1832, Sacramento, CA 95825-1846. Written comments may also be faxed to (916) 414-6497, or sent by electronic mail to fw8plancomments@fws.gov. Additional information is also available at http://www.fws.gov/cno/refuges/planning.html.

FOR FURTHER INFORMATION CONTACT: Mark Pelz, Refuge Planner, at (916) 414-6504 or Carol Damberg, Refuge Manager, at (541) 783-3380.

SUPPLEMENTARY INFORMATION: The National Wildlife Refuge System Administration Act of 1966, as amended by the National Wildlife Refuge System Improvement Act of 1997 (16 U.S.C. 668dd-668ee et seq.), requires the Service to develop a CCP for each National Wildlife Refuge. The purpose for developing a CCP is to provide refuge managers with a 15-year strategy for achieving refuge purposes and contributing toward the mission of the National Wildlife Refuge System, consistent with sound principles of fish and wildlife management, conservation, legal mandates, and Service policies. In addition to outlining broad management direction on conserving wildlife, plants and their habitats, the CCP will identify compatible wildlife-dependent recreational opportunities available to the public. The recreational opportunities that will receive priority consideration are hunting, fishing, wildlife observation and photography, and environmental education and interpretation.

Klamath Marsh Refuge was established in 1958 under the authority of the Migratory Bird Conservation Act (16 U.S.C. 715d). The acquisition boundary approved by the Migratory Bird Conservation Commission included 24,418 acres. Between 1958 and 1980, the Service acquired 16,932 acres. In 1988, the Service expanded the acquisition boundary by 28,584 under the authority of the Fish and Wildlife Act of 1956 (16 U.S.C. 742f(b)(1)) and the Emergency Wetland Resources Act of 1986 (16 U.S.C. 3901(b)). Since this expansion, the Service has acquired 24,508 additional acres.

Klamath Marsh Refuge protects a large natural marsh which provides important nesting, feeding, and resting habitat for waterfowl. The surrounding meadowlands are attractive nesting and feeding areas for sandhill crane, yellow rail, and various shorebirds and raptors. The adjacent pine forests also support diverse wildlife including great gray owl and Rocky Mountain elk. Currently, visitor services are limited to wildlife observation and interpretation along established roads, canoeing during the summer in Wocus Bay, and waterfowl hunting in the southern half of the Refuge during the fall.

Comments and concerns received during this scoping process will be used to help identify key issues, develop goals, establish habitat management and public use strategies, and draft management alternatives. Additional opportunities for public participation will occur throughout the planning process, and details about these opportunities will be provided in special mailings, newspaper articles, and other announcements. Involvement and input from interested Federal, State, and local agencies, Tribal governments, organizations, and individuals is encouraged. We expect to have the draft CCP/EA completed and made available for public review in the spring of 2008 and the CCP process completed in late 2008.

Dated: January 23, 2007.
John Engbring,
Acting Manager, CA/NV Operations, Sacramento, California.

[FR Doc. E7-1323 Filed 1-26-07; 8:45 am]

BILLING CODE 4310-55-P